DEPARTMENT OF TRANSPORTATION

Federal Aviation Administration

Notice of Submission Deadline for International Arrival Authorizations at Chicago O'Hare International Airport for the Winter 2007 Scheduling Season

AGENCY: Department of Transportation, FAA.

ACTION: Notice of submission deadline.

SUMMARY: The FAA announces May 3, 2007, as the deadline for submitting requests for the allocation of international Arrival Authorizations at Chicago O'Hare International Airport (ORD). The FAA deadline coincides with the submission deadline established by the International Air Transport Association (IATA) for the Winter 2007 Schedule Coordination Conference. The conference covers the period of October 28, 2007 through March 29, 2008. The FAA limits scheduled arrivals at ORD from 7 a.m. to 9 p.m., Central Time, Monday through Friday, and 12 p.m. to 9 p.m., on Sunday, based on runway capacity.

DATES: Requests for international Arrival Authorizations must be submitted no later than May 3, 2007.

ADDRESSES: Requests may be submitted by mail to Slot Administration Office, AGC-200, Office of the Chief Counsel, 800 Independence Ave., SW., Washington, DC 20591; facsimile: 202-267-7277; ARINC: DCAYAXD; or by e-mail to: 7-AWA-slotadmin@faa.gov.

FOR FURTHER INFORMATION CONTACT: Komal Jain, Regulations Division, Office of the Chief Counsel, Federal Aviation Administration, 800 Independence Avenue, SW., Washington, DC 20591; telephone number: 202-267-3073.

Issued in Washington, DC on April 10, 2007.
Rebecca B. MacPherson,
Assistant Chief Counsel for Regulations.

[FR Doc. 07-1874 Filed 4-13-07; 8:45 am]

BILLING CODE 4910-13-M